DEPARTMENT OF HOMELAND SECURITY

U.S. Customs and Border Protection

[Docket No. USCBP-2012-0041]

Advisory Committee on Commercial Operations of Customs and Border Protection (COAC)

AGENCY: U.S. Customs and Border Protection, Department of Homeland Security (DHS).

ACTION: Committee Management; Notice of Federal Advisory Committee Meeting.

SUMMARY: The Advisory Committee on Commercial Operations of Customs and Border Protection (COAC) will meet on December 4, 2012, in Washington, DC. The meeting will be open to the public.

DATES: COAC will meet on Tuesday, December 4, 2012, from 1:00 p.m. to 6:00 p.m. EST. Please note that the meeting may close early if the committee has completed its business.

Registration: If you plan on attending, please register either online at https://apps.cbp.gov/te_registration/index.asp?w=111 or by email to tradeevents@dhs.gov, or by fax to 202-325-4290 by close-of-business on November 30,2012.

If you have completed an online on-site registration and wish to cancel your registration, you may do so at https://apps.cbp.gov/te_registration/cancel.asp?w=111. Please feel free to share this information with interested members of your organizations or associations.

ADDRESSES: The meeting will be held at Ronald Reagan Building in the Horizon Ballroom, 1300 Pennsylvania Avenue NW., Washington, DC 20229. All visitors to the Ronald Reagan Building must show a state-issued ID or Passport to proceed through the security checkpoint to be admitted to the building.

For information on facilities or services for individuals with disabilities or to request special assistance at the meeting, contact Ms. Wanda Tate, Office of Trade Relations, U.S. Customs and Border Protection at 202-344-1661 as soon as possible.

To facilitate public participation, we are inviting public comment on the issues to be considered by the committee as listed in the “Agenda” section below.

Comments must be submitted in writing no later than November 26, 2012, and must be identified by USCBP-2012-0041 and may be submitted by one of the following methods:

• Federal eRulemaking Portal: http://www.regulations.gov. Follow the instructions for submitting comments.

• Email: Tradeevents@dhs.gov. Include the docket number in the subject line of the message.

• Fax: 202-325-4290.

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket to read background documents or comments received by the COAC, go to http://www.regulations.gov.

There will be three public comment periods held during the meeting on December 4, 2012. Speakers are requested to limit their comments to two (2) minutes or less to facilitate greater participation. Contact the individual listed below to register as a speaker. Please note that the public comment period for speakers may end before the time indicated on the schedule that is posted on the CBP web page at the time of the meeting.

FOR FURTHER INFORMATION CONTACT: Ms. Wanda Tate, Office of Trade Relations, U.S. Customs and Border Protection, 1300 Pennsylvania Avenue NW., Room 3.5A, Washington, DC 20229; telephone 202-344-1440; facsimile 202-325-4290.

SUPPLEMENTARY INFORMATION: Notice of this meeting is given under the Federal Advisory Committee Act, 5 U.S.C. App. (Pub. L. 92-463). The COAC provides advice to the Secretary of Homeland Security, the Secretary of the Treasury, and the Commissioner of U.S. Customs and Border Protection (CBP) on matters pertaining to the commercial operations of CBP and related functions within DHS or the Department of the Treasury.

Agenda

The COAC will hear from the following subcommittees on the topics listed below and then will review, deliberate, provide observations and formulate recommendations on how to proceed on those topics:

• The work of the Trade Facilitation Subcommittee: Recommendations and resolutions on CBP's Trade Transformation initiatives, recommendations on the role of the customs brokers in regard to the Centers of Excellence and Expertise (CEEs), and recommendations based on the results from the COAC Industry Survey regarding the expected benefits of the CEEs.

• The work of the Role of the Broker Subcommittee: Recommendations and resolutions on various aspects of CBP's effort to revise the role of the customs broker in the CBP regulations (19 CFR Part 111) which includes whether the initiative in the area of continuing education should be pursued, requirements for brokers to obtain bona fides for their importer clients before transacting customs business on the client's behalf, and comments on possible revision to CBP Form 5106 (Importer Identification Input Record). In addition, recommendations will be made regarding the role of customs brokers in the CEEs.

• The work of Automated Commercial Environment (ACE) Strategic Communications Working Group: Presentation of a white paper and recommendation how CBP should proceed in communicating with the trade community as the agency shifts from the Automated Commercial System (ACS) to ACE as functionality becomes available.

• The work of the One U.S. Government at the Border Subcommittee: Recommendation for addressing a One U.S. Government Approach to Trusted Trader Programs and provide the subcommittee term end report.

• The Intellectual Property Rights Enforcement Subcommittee's work on providing CBP with guidance on new tools to be used in the port of entry to help identify counterfeit products, the distribution chain management and serialization pilot project, and modification to the CBP recordation database of federally registered trademarks, trade names and copyrights.

• The Anti-Dumping/Countervailing Duties Subcommittee's term end report and a discussion on the impact of trade enforcement and trade intelligence initiatives.

• The Bond Subcommittee's work on proposed modifications to the CBP Form 5106 (Importer Identification Input Record), liquidated damages/mitigation guidelines, and the use of single transaction bonds (STBs) when additional security is merited. The Subcommittee will respond to the CBP Deputy Commissioner's request to look into the possibility of issuing bonds prior to the foreign departure of goods that are intended for importation into the United States.

• An update from CBP's Agriculture Programs and Trade Liaison on the July 2012 USDA/Animal Plant Health Inspection Service (APHIS) and CBP Joint Stakeholder Conference.

Prior to the COAC taking action on any of these topics of the eight above-mentioned subcommittees, working groups, and Agriculture Programs and Trade Liaison, members of the public will have an opportunity to provide comments orally or, for comments submitted electronically during the meeting, by reading the comments into the record.

The COAC will also receive term-end reports, updates and discuss the following Initiatives and Subcommittee topics that were discussed throughout the 12th Term meetings as set forth below:

• The National Strategy for Global Supply Chain Security as it relates to an effort to solicit, consolidate, and provide to DHS sector and stakeholder input on implementation of the National Strategy.

• The work of the Land Border Security Subcommittee: updates and observations on the Customs—the 21st Century Border Management Initiative and Beyond the Border initiatives.

• The Air Cargo Security Subcommittee's work on the Air Cargo Advance Screening (ACAS) pilot, and a discussion of the operational involvement of freight forwarders as well as the next steps in drafting a notice of proposed rulemaking.

• The Export Subcommittee's work on where it stands in identifying incentives for U.S. exporters to participate in Customs-Trade Partnership Against Terrorism (C-TPAT)/Authorized Economic Operator (AEO) programs and a review of the subcommittee's scope and goals for the 13th Term COAC.

Dated: November 9, 2012.
Maria Luisa O'Connell,
Senior Advisor for Trade, Office of Trade Relations.

[FR Doc. 2012-27850 Filed 11-15-12; 8:45 am]

BILLING CODE 9111-14-P